DEPARTMENT OF AGRICULTURE

Forest Service

Plumas County Resource Advisory Committee; Meetings

AGENCY: Forest Service, USDA.

ACTION: Notice of meetings.

SUMMARY: The Plumas County Resource Advisory Committee (RAC) will hold meetings on January 25 and February 8, 2002, in Quincy, California. The purpose of the meetings is to review the Resource Advisory Committee's role in implementing the Title 2 provisions of the Secure Rural Schools and Community Self-Determination Act of 2000 (the Act) and to determine how to proceed with project solicitation and selection.

DATES: The January 25, 2002, meeting will be held from 9-4 p.m. The February 8, 2002, meeting time will be determined at the meeting on the 25th.

ADDRESSES: Both meetings will be held at the Mineral Building at the Plumas-Sierra County Fairgrounds, 204 Fairgrounds Road, Quincy, California, 95971.

FOR FURTHER INFORMATION CONTACT: Lee Anne Schramel Taylor, Forest Coordinator, USDA, Plumas National Forest, P.O. Box 11500/159 Lawrence Street, Quincy, CA, 95971; (530) 283-7850; or by e-mail eataylor@fs.fed.us.

SUPPLEMENTARY INFORMATION: Agenda items for the January 25 meeting include: (1) Review applicable laws including: Federal Advisory Committee Act (FACA), the Secure Rural Schools and Community Self-Determination Act of 2000, the National Environmental Policy Act (NEPA) and the California Environmental Quality Act (CEQA); (2) Discuss Collaboration and Interest-Based Bargaining; (3) Continue project solicitation/design and selection process; (4) Review ongoing public and private programs of work that fit Title 2 parameters; (5) Public Comment; and, (6) Future meeting schedule/logistics/agenda. The meeting is open to the public and individuals may address the Committee at the time provided on the agenda. Agenda items for the February 8 meeting will be determined at the meeting on the 25th.

Dated: January 10, 2002.
Mark J. Madrid,
Forest Supervisor.

[FR Doc. 02-1216 Filed 1-16-02; 8:45 am]

BILLING CODE 3410-11-M